DEPARTMENT OF ENERGY

Federal Energy Regulatory Commission

[Project No. 3511-024]

Lower Saranac Hydro, LLC; Notice of Intent To Prepare an Environmental Assessment

On May 29, 2020, Enel Green Power North America, Inc.¹ filed an application on behalf of Lower Saranac Hydro, LLC (Lower Saranac), for a subsequent minor license for the 1.76-megawatt Groveville Hydroelectric Project (Groveville Project or project) (FERC No. 3511). The Groveville Project is located on Fishkill Creek, in the City of Beacon, Dutchess County, New York. The project is located approximately 2.7 river miles upstream of the mouth of Fishkill Creek. The project does not occupy federal land.

¹ In a February 9, 2021 filing, the Commission was notified that Enel Green Power North America, Inc. transferred all its ownership interests for Lower Saranac Hydro, LLC to Hydroland, Inc.

In accordance with the Commission's regulations, on May 11, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Groveville Project.

The EA will be issued and circulated for review by all interested parties. All comments filed on the EA will be analyzed by staff and considered in the Commission's final licensing decision.

The application will be processed according to the following schedule. Revisions to the schedule may be made as appropriate.

Milestone | Target date
Commission issues EA | December 2021. ²
Comments on EA | January 2022.

Any questions regarding this notice may be directed to Jeremy Feinberg at (202) 502-6893 or jeremy.feinberg@ferc.gov.

² The Council on Environmental Quality's (CEQ) regulations under 40 CFR 1501.10(b)(1) require that EAs be completed within 1 year of the federal action agency's decision to prepare an EA. This notice establishes the Commission's intent to prepare an EA for the Groveville Project. Therefore, in accordance with CEQ's regulations, the EA must be issued within 1 year of the issuance date of this notice.

Dated: July 22, 2021.
Debbie-Anne A. Reese,
Deputy Secretary.

[FR Doc. 2021-16067 Filed 7-27-21; 8:45 am]

BILLING CODE 6717-01-P